DEPARTMENT OF COMMERCE

International Trade Administration

[A-570-972, A-583-848]

Stilbenic Optical Brightening Agents From People's Republic of China and Taiwan: Final Results of Sunset Reviews and Revocation of Order

AGENCY: Enforcement and Compliance, International Trade Administration, Department of Commerce.

SUMMARY: On October 3, 2022, the U.S. Department of Commerce (Commerce) initiated the sunset reviews of the antidumping duty (AD) orders on stilbenic optical brightening agents (OBAs) from the People's Republic of China (China) and Taiwan. Because no domestic interested party responded to the sunset review notice of initiation by the applicable deadline, consistent with section 751(c)(3)(A) of the Tariff Act of 1930, as amended (the Act), Commerce is revoking these AD orders.

DATES: Applicable December 29, 2022.

FOR FURTHER INFORMATION CONTACT: Mary Kolberg, AD/AD Operations, Office I, Enforcement and Compliance, International Trade Administration, U.S. Department of Commerce, 1401 Constitution Avenue NW, Washington, DC 20230; telephone: (202) 482-1785.

SUPPLEMENTARY INFORMATION:

Background

On May 10, 2012, Commerce published the AD orders on OBAs from the China and Taiwan.¹ On November 27, 2017, Commerce published the most recent continuation of the Orders.² On October 3, 2022, Commerce initiated the current sunset reviews of the Orders pursuant to section 751(c) of the Act.³ Consistent with 19 CFR 351.218(d)(1)(iii)(B), because no domestic interested party filed a timely notice of intent to participate in these proceedings,⁴ we concluded that “no domestic interested party has responded to the notice of initiation under section 751(c)(3)(A) of the Act,” and “{notified} the {U.S. International Trade Commission} in writing as such.” ⁵

¹ See Certain Stilbenic Optical Brightening Agents from the People's Republic of China: Amended Final Determination of Sales at Less Than Fair Value and Antidumping Duty Order, 77 FR 27423 (May 10, 2012); and Certain Stilbenic Optical Brightening Agents from Taiwan: Amended Final Determination of Sales at Less Than Fair Value and Antidumping Duty Order, 77 FR 27419 (May 10, 2012) (collectively, Orders).

² See Stilbenic Optical Brightening Agents from the People's Republic of China and Taiwan: Continuation of Antidumping Duty Orders, 82 FR 55990 (November 27, 2017) (2017 Continuation Notice).

³ See Initiation of Five-Year (Sunset) Reviews, 87 FR 59779 (October 3, 2022).

⁴ See 19 CFR 351.218(d)(1)(i); see also Commerce's Letter, “Five-Year (“Sunset”) Review of the Antidumping Duty Orders on Stilbenic Optical Brightening Agents from China and Taiwan: Rejection of Notice of Intent to Participate,” dated October 28, 2022; Commerce's Letter, Five-Year (“Sunset”) Review of the Antidumping Duty Orders on Stilbenic Optical Brightening Agents from China and Taiwan: Rejection of Notice of Intent to Participate,” dated November 2, 2022; Archroma, U.S. Inc.'s (Archroma) Letter, “Request for Reconsideration of Denial of Archroma's Request for Leave to File Late Notice of Intent to Appear; Sunset Review of the Antidumping Order on Stilbenic Optical Brightening Agents from China and Taiwan; Institution of Five-Year Reviews,” dated November 11, 2022; Archroma's Letter, “Supplement to November 11, 2022 Request for Reconsideration of Denial of Archroma's Request for Leave to File Late Notice of Intent to Appear; Sunset Review of the Antidumping Order on Stilbenic Optical Brightening Agents from China and Taiwan; Institution of Five-Year Reviews,” dated November 17, 2022; Commerce's Letter, “Five-Year (“Sunset”) Review of the Antidumping Duty Orders on Stilbenic Optical Brightening Agents from China and Taiwan: Rejection of Request for Reconsideration,” dated November 30, 2022.

⁵ See Commerce's Letter, “Sunset Reviews for October 2022,” dated October 27, 2022.

Scope of the Orders

The OBAs covered by the Orders are all forms (whether free acid or salt) of compounds known as triazinylaminostilbenes (i.e., all derivatives of 4,4'-bis [1,3,5- triazin-2-yl] ⁶ amino-2,2'- stilbenedisulfonic acid), except for compounds listed in the following paragraph. The stilbenic OBAs covered by the Orders include final stilbenic OBA products, as well as intermediate products that are themselves triazinylaminostilbenes produced during the synthesis of stilbenic OBA products.

⁶ The brackets in this sentence are part of the chemical formula and do not constitute business proprietary information.

Excluded from the Orders are all forms of 4,4'-bis[4-anilino-6-morpholino-1,3,5-triazin-2-yl] ⁷ amino-2,2'-stilbenedisulfonic acid, C40H40N12O8S2 (“Fluorescent Brightener 71”). The Orders cover the above-described compounds in any state (including but not limited to powder, slurry, or solution), of any concentrations of active stilbenic OBA ingredient, as well as any compositions regardless of additives (i.e., mixtures or blends, whether of stilbenic OBAs with each other, or of stilbenic OBAs with additives that are not stilbenic OBAs), and in any type of packaging.

⁷ The brackets in this sentence are part of the chemical formula and do not constitute business proprietary information.

These OBAs are classifiable under subheading 3204.20.8000 of the Harmonized Tariff Schedule of the United States (HTSUS), but they may also enter under subheadings 2933.69.6050, 2921.59.4000 and 2921.59.8090. Although the HTSUS subheadings are provided for convenience and customs purposes, the written description of the merchandise is dispositive.

Revocation

Pursuant to section 751(c)(3)(A) of the Act, if no domestic interested party responds to a notice of initiation, Commerce shall, within 90 days after the initiation of review, revoke the order. Because no domestic interested party filed a timely notice of intent to participate in these proceedings, consistent with 19 CFR 351.218(d)(1)(iii)(B), we concluded that “no domestic interested party has responded to the notice of initiation under section 751(c)(3)(A) of the Act.” Consequently, Commerce is revoking the Orders.

Effective Date of Revocation

Pursuant to section 751(c)(3)(A) of the Act and 19 CFR 351.222(i)(2)(i), Commerce intends to instruct U.S. Customs and Border Protection to terminate the suspension of liquidation of the merchandise subject to the Orders entered, or withdrawn from the warehouse, on or after November 27, 2022, the fifth anniversary of the date of publication of the last continuation notice.⁸ Entries of subject merchandise prior to the effective date of revocation will continue to be subject to suspension of liquidation and AD deposit requirements. Commerce will complete any pending reviews of these orders and will conduct administrative reviews of subject merchandise entered prior to the effective date of revocation in response to appropriately filed requests for review.

⁸ See 2017 Continuation Notice.

Notification to Interested Parties

We are issuing and publishing these final results in accordance with sections 751(c) and 777(i)(1) of the Act, and 19 CFR 351.218(f)(4) and 19 CFR 351.222(i)(1)(i).

Dated: December 22, 2022.
Lisa W. Wang,
Assistant Secretary for Enforcement and Compliance.

[FR Doc. 2022-28380 Filed 12-28-22; 8:45 am]

BILLING CODE 3510-DS-P